ENVIRONMENTAL PROTECTION AGENCY

40 CFR Parts 52 and 81

[EPA-R07-OAR-2014-0900; FRL-9923-14-Region 7]

Approval and Promulgation of Implementation Plans; Attainment Redesignation for Missouri Portion of the St. Louis MO-IL Area; 1997 8-Hour Ozone Standard and Associated Maintenance Plan

AGENCY: Environmental Protection Agency.

ACTION: Final rule.

SUMMARY: The Environmental Protection Agency (EPA) is taking final action to approve the State of Missouri's request to redesignate the Missouri portion of the St. Louis MO-IL nonattainment area, the “St. Louis area” or “area” to attainment for the 1997 8-hour National Ambient Air Quality Standards (NAAQS or Standard) for ozone (O3). The Missouri counties comprising the St. Louis area are Franklin, Jefferson, St. Charles, and St. Louis along with the City of St. Louis. EPA's approval of the redesignation request is based on the determination that the St. Louis area has met the criteria for redesignation to attainment set forth in the Clean Air Act (CAA), including the determination that the St. Louis area has attained the 1997 8-hour O3 standard. Additionally, EPA is approving the state's plan for maintaining the 1997 O3 standard in the St. Louis area for 10 years beyond redesignation. In a separate action the state of Illinois submitted a similar redesignation request for the Illinois portion of the St. Louis MO-IL 1997 8-hour O3 area. On June 12, 2012, the EPA published a document in the Federal Register taking final action to address the Illinois portion of the St. Louis area.

DATES: Effective date: This final rule is effective on February 20, 2015.

ADDRESSES: EPA has established a docket for this action under Docket ID No. EPA-R07-OAR-2014-0900. All documents in the docket are listed on the www.regulations.gov Web site. Although listed in the index, some information is not publicly available, i.e., CBI or other information whose disclosure is restricted by statute. Certain other material, such as copyrighted material, is not placed on the Internet and will be publicly available only in hard copy form. Publicly available docket materials are available either electronically through www.regulations.gov or in hard copy at the Environmental Protection Agency, Air Planning and Development Branch, 11201 Renner Boulevard, Lenexa, Kansas 66219. The Regional Office's official hours of business are Monday through Friday, 8:00 a.m. to 4:30 p.m. excluding Federal holidays. The interested persons wanting to examine these documents should make an appointment with the office at least 24 hours in advance.

FOR FURTHER INFORMATION CONTACT: Ms. Lachala Kemp, Environmental Protection Agency, Air Planning and Development Branch, 11201 Renner Boulevard, Lenexa, KS 66219 at (913) 551-7214 or by email at kemp.lachala@epa.gov.

SUPPLEMENTARY INFORMATION: Throughout this document whenever “we,” “us,” or “our” is used, we refer to EPA. This section provides additional information by addressing the following:

Table of Contents

I. What is the background for this rule?

II. Summary of SIP Revisions

III. What action is EPA taking??

IV. Statutory and Executive Order Reviews

I. What is the background for this rule?

On July 18, 1997, EPA promulgated a revised 8-hour O3 NAAQS of 0.08 parts per million (ppm) (62 FR 38856). EPA published a final rule designating and classifying areas under the 8-hour O3 NAAQS on April 30, 2004 (69 FR 23857). In that rulemaking, the St. Louis area was designated as nonattainment for the 1997 8-hour O3 standard and classified as a moderate nonattainment area under subpart 2 of the CAA.

On November 3, 2011, Missouri requested redesignation of the Missouri portion of the St. Louis area to attainment of the 1997 8-hour O3 standard, and requested approval of the Missouri SIP revision containing a maintenance plan for the Missouri portion of the St. Louis area. Missouri submitted a supplement to this request on April 29, 2014.

On June 9, 2011 (76 FR 33647), EPA issued a final rulemaking determining that the entire St. Louis MO-IL area attained the 1997 8-hour O3 NAAQS based on three years of complete, quality assured O3 data for the period of 2008-2010.

On December 31, 2014(79 FR 78755), EPA published a notice of proposed rulemaking (NPR) proposing to approve Missouri's request to redesignate the Missouri portion of the St. Louis area to attainment of the 1997 8-hour O3 standard, and also proposing to approve Missouri's maintenance plan for the area. The proposed rulemaking provides a detailed discussion and sets forth the basis for determining that Missouri's redesignation request meets the CAA requirements for redesignation to attainment for the 1997 8-hour O3 NAAQS.

The primary background for this action is contained in EPA's December 31, 2014, proposal to approve Missouri's redesignation request, and in EPA's June 9, 2011, final rulemaking determining that the area has attained the 1997 8-hour O3 standard based on complete, quality assured monitoring data for 2008-2010. In these rulemakings, we noted that under EPA regulations at 40 CFR 50.10 and 40 CFR part 50, appendix I provides that the 8-hour O3 standard is attained when the three-year average of the annual fourth-highest daily maximum 8-hour average O3 concentration is less than or equal to 0.08 ppm, when rounded at all monitoring sites in the area. See 69 FR 23857 (April 30, 2004). To support the redesignation of the area to attainment of the NAAQS, the O3 data must be complete for the three attainment years. The data completeness requirement is met when the average percent of days with valid ambient monitoring data is greater than ninety percent, and no single year has less than seventy five percent data completeness. See 40 CFR part 50, appendix I, 2.3(d). Under the CAA, EPA may redesignate a nonattainment area to attainment if sufficient, complete, quality assured data are available to determine that the area has attained the standard and if it meets the other CAA redesignation requirements in section 107(d)(3)(E).

II. Summary of SIP Revisions

On November 3, 2011, EPA received a SIP revision from the State of Missouri requesting redesignation of the Missouri portion of the St. Louis MO-IL area to attainment for the 1997 8-hour O3 standard, and approval of the area's maintenance plan. Missouri submitted a supplemental revision on April 29, 2014. The maintenance plan is designed to keep the Missouri portion of the St. Louis area in attainment of the 1997 8-hour O3 standard through 2025. A more detailed rationale for EPA's proposed action to approve the SIP submissions are explained in the NPR and will not be restated here. The comment period on EPA's proposed rule opened December 31, 2014, the date of its publication in the Federal Register, and closed on January 30, 2015. No public comments were received on the NPR.

III. What action is EPA taking?

EPA is approving a request from the State of Missouri to redesignate the Missouri portion of the St. Louis, MO-IL area to attainment of the 1997 8-hour O3 standard. In addition, EPA is approving as a revision to the Missouri SIP, the State's plan for maintaining the 1997 8-hour O3 standard through 2025 in the area.

In accordance with 5 U.S.C. 553(d), EPA finds there is good cause for this action to become effective immediately upon publication. This is because a delayed effective date is unnecessary due to the nature of a redesignation to attainment, which relieves the area from certain CAA requirements that would otherwise apply to it. The immediate effective date for this action is authorized under both 5 U.S.C. 553(d)(1), which provides that rulemaking actions may become effective less than 30 days after publication if the rule “grants or recognizes an exemption or relieves a restriction,” and section 553(d)(3), which allows an effective date less than 30 days after publication “as otherwise provided by the agency for good cause found and published with the rule.” The purpose of the 30-day waiting period prescribed in section 553(d) is to give affected parties a reasonable time to adjust their behavior and prepare before the final rule takes effect. This rule, however, does not create any new regulatory requirements such that affected parties would need time to prepare before the rule takes effect. Rather, this rule relieves the state of various requirements for this nonattainment area. For these reasons, EPA finds good cause under 5 U.S.C. 553(d)(3) for this action to become effective on the date of publication of this action.

IV. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

List of Subjects

40 CFR Part 52

Environmental protection, Air pollution control, Incorporation by reference, Intergovernmental relations, Nitrogen oxides, Ozone, Reporting and recordkeeping requirements, Volatile organic compounds.

40 CFR Part 81

Environmental protection, Air pollution control.

Authority: 42 U.S.C. 7401 et seq.

Dated: February 9, 2015.
Karl Brooks,
Regional Administrator, Region 7.

For the reasons stated in the preamble, the Environmental Protection Agency amends 40 CFR parts 52 and 81 as set forth below:

PART 52—APPROVAL AND PROMULGATION OF IMPLEMENTATION PLANS

1. The authority citation for part 52 continues to read as follows:

Authority: 42 U.S.C. 7401 et seq.

Subpart AA—Missouri

2. Section 52.1342 is amended by adding paragraph (c) to read as follows:

§ 52.1342 Control strategy: Ozone.

* * * * *

(c) On November 3, 2011 and April 29, 2014, Missouri submitted requests to redesignate the Missouri portion of the St. Louis MO-IL area to attainment of the 1997 8-hour ozone standard. The Missouri portion of the St. Louis MO-IL area includes Jefferson, Franklin, St. Charles, and St. Louis Counties along with the City of St. Louis. As part of the redesignation request, the State submitted a plan for maintaining the 1997 8-hour ozone standard through 2025 in the area as required by Section 175A of the Clean Air Act.

PART 81—DESIGNATION OF AREAS FOR AIR QUALITY PLANNING PURPOSES

3. The authority citation for part 81 continues to read as follows:

Authority: 42 U.S.C. 7401, et seq.

Subpart C—Section 107 Attainment Status Designations

4. Section 81.326 is amended by revising the entry for “St. Louis MO-IL” in the table entitled “Missouri—1997 8-Hour Ozone NAAQS (Primary and Secondary)” to read as follows:

§ 81.326 Missouri.

* * * * *

Missouri—1997 8-Hour Ozone NAAQS
[Primary and Secondary]
Designated area | Designation ᵃ: Date ¹ | Designation ᵃ: Type | Category/Classification: Date ¹ | Category/Classification: Type
* * * * * * *
St. Louis, MO-IL
Franklin County | February 20, 2015 | Attainment
Jefferson County | February 20, 2015 | Attainment
St. Charles County | February 20, 2015 | Attainment
St. Louis City | February 20, 2015 | Attainment
St. Louis County | February 20, 2015 | Attainment
* * * * * * *
ᵃ Includes Indian Country located in each county or area, except as otherwise specified.
¹ This date is June 15, 2004, unless otherwise noted.

* * * * *

[FR Doc. 2015-03287 Filed 2-19-15; 8:45 am]

BILLING CODE 6560-50-P